DEPARTMENT OF TRANSPORTATION

Federal Aviation Administration

Notice of Opportunity for Public Comment Equal Land Swap of .64 Acres at Tweed-New Haven

AGENCY: Federal Aviation Administration (FAA), DOT.

ACTION: Request for public comments.

SUMMARY: Notice is being given that the FAA is considering a request from the City of New Haven, CT to exchange a .64 acre parcel of land with an adjacent land owner of equal size and value. The exchange of land will provide the airport with the necessary land to build an extension of a parallel taxiway and vehicle service road that will serve the end of Runway 20.

DATES: Comments must be received on or before September 3, 2020.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE, Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts 01803. Telephone: 781-238-7618.

Issued in Burlington, Massachusetts on August 3, 2020.
Julie Seltsam-Wilps,
Deputy Director, ANE-600.

[FR Doc. 2020-17150 Filed 8-5-20; 8:45 am]

BILLING CODE 4910-13-P